DEPARTMENT OF ENERGY

Federal Energy Regulatory Commission

[Docket No. RP03-111-001]

El Paso Natural Gas Company; Notice of Compliance Filing

March 12, 2003.

Take notice that on February 28, 2003, El Paso Natural Gas Company (El Paso) tendered for filing as part of its FERC Gas Tariff, Second Revised Volume No. 1-A, the following tariff sheets to become effective January 1, 2003.

Sub Twenty-Seventh Revised Sheet No. 20

Sub Thirty-Second Revised Sheet No. 24

Sub Twenty-Sixth Revised Sheet No. 26

Sub Twenty-Sixth Revised Sheet No. 27

Sub Fourteenth Revised Sheet No. 38

El Paso states that the tendered tariff sheets revise El Paso's inflation adjustment filing in Docket No. RP03-111-000 to escalate for inflation the California Receipt Service usage rates recently accepted by the Commission.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 12, 2003.

Magalie R. Salas,
Secretary.

[FR Doc. 03-6529 Filed 3-18-03; 8:45 am]

BILLING CODE 6717-01-P